DEPARTMENT OF STATE

[Public Notice 7909]

30-Day Notice of Proposed Information Collection: DS-234, Special Immigrant Visa Biodata Form, OMB Number 1405-0203

ACTION: Notice of request for public comment and submission to OMB of proposed collection of information.

SUMMARY: The Department of State has submitted the following information collection request to the Office of Management and Budget (OMB) for review and approval in accordance with the emergency review procedures of the Paperwork Reduction Act of 1995.

• Title of Information Collection: Special Immigrant Visa Biodata Form.

• OMB Control Number: 1405-0203.

• Type of Request: Extension of Currently Approved Collection.

• Originating Office: Bureau of Population, Refugees, and Migration, Office of Admissions (PRM/A).

• Form Number: DS-234.

• Respondents: Iraqi and Afghan Special Immigrant Visa Applicants.

• Estimated Number of Respondents: 12,000 per year.

• Estimated Number of Responses: 12,000 per year.

• Average Hours per Response: 20 minutes.

• Total Estimated Burden: 4000 hours.

• Frequency: Once per respondent.

• Obligation to Respond: Required to Obtain or Retain a Benefit.

DATES: Submit comments to the Office of Management and Budget (OMB) for up to 30 days from June 1, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: (202) 395-5806. Attention: Desk Officer for Department of State.

FOR FURTHER INFORMATION CONTACT: Direct requests for additional information regarding the collection listed in this notice, including requests for copies of the proposed information collection and supporting documents, to Sumitra Siram, who may be reached on (202) 453-9250 or at SiramS@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-234 elicits information used to determine the eligibility of Iraqi and Afghan nationals who are applying for special immigrant visas to receive refugee resettlement benefits.

Methodology:

The SIV Biodata information form (DS-234) is submitted electronically by the respondent to the National Visa Center, which will forward the forms to the Refugee Processing Center of the Bureau of Population, Refugees and Migration.

Dated: May 14, 2012.
Kelly A. Gauger,
Deputy Director, Office of Admissions, Bureau of Population, Refugees, and Migration, Department of State.

[FR Doc. 2012-13343 Filed 5-31-12; 8:45 am]

BILLING CODE 4710-25-P